DEPARTMENT OF AGRICULTURE

Natural Resources Conservation Service

Revision to Section IV of the Field Office Technical Guide; Oregon and Washington State

AGENCY: Natural Resources Conservation Service

ACTION: Notice of change.

SUMMARY: Pursuant to Section 343 of Subtitle E of the Federal Agriculture Improvement and Reform Act of 1996 (FAIRA) that requires the Secretary of Agriculture to provide public notice and comment under Section 553 of Title 5, United States Code, with regard to any future technical guides that are used to carry out Subtitles A, B, and C of title XII of the Food Security Act of 1985 (16 U.S.C. 3801 et seq.), the Natural Resources Conservation Service, U.S. Department of Agriculture, gives notice of revisions to applicable conservation practices in Section IV of the Field Office Technical Guide (FOTG) located in Oregon and Washington State.

The proposed revisions to conservation practices in Section IV of State Technical Guides are subject to these provisions, since one or more could be used as part of a conservation management system to comply with the Highly Erodible Land Conservation or Wetland Conservation requirements.

At this time, two versions of conservation practice standard 777 Residue Management, Direct Seed (Interim) are being added and/or revised to Section IV of the FOTG; one for Oregon and one for Washington (see below):

• Residue Management, Direct Seed (Interim) (Oregon)—NRCS Code Number 777

• Residue Management, Direct Seed (Interim) (Washington)—NRCS Code Number 777

You may request a hard copy of the practice standards and provide your comments to:

Oregon

Roy Carlson, State Resource Conservationist, 101 SW Main Street, Suite 1300, Portland, OR, 97204-3221, (503) 414-3277

Washington

Marty Seamons, Program Support Specialist, W. 316 Boone Avenue, Suite 450, Spokane, WA 99201-2348, (509) 323-2967

You may also obtain a copy of both Oregon and/or Washington's practice standard by accessing the NRCS Washington State Internet website. The internet address is: http://www.wa.nrcs.usda.gov/nrcs/

Click on “Field Office Technical Guide” on the left side of the page, then click on “Section IV,” then “Index of Draft Standards and Specifications for Review and Comment,” and finally click on the blue star of the appropriate standard.

Dated: April 28, 2000.
Leonard Jordan,
State Conservationist.

[FR Doc. 00-11842 Filed 5-10-00; 8:45 am]

BILLING CODE 3410-06-M